AFRICAN DEVELOPMENT FOUNDATION

Board of Directors Meeting

Time: Tuesday, February 28, 2012, 8:45 a.m. to 1 p.m.

Place: African Development Foundation, Conference Room, 1400 I Street NW., Suite 1000, Washington, DC 20005.

Date: Tuesday, February 28, 2012.

Status:

1. Open session, Tuesday, February 28, 2012, 8:45 a.m. to 11:45 a.m.; and

2. Closed session, Tuesday, February 28, 2012, 12 p.m. to 1 p.m.

Due to security requirements and limited seating, all individuals wishing to attend the open session of the meeting must notify Sarah Conway at (202) 233-8811 or sconway@usadf.gov of your request to attend by 5 p.m. on Thursday, February 23, 2012.

Lloyd O. Pierson,
President & CEO, USADF.

[FR Doc. 2012-3593 Filed 2-15-12; 8:45 am]

BILLING CODE 6117-01-P